DEPARTMENT OF HOMELAND SECURITY

Coast Guard

[Docket Number USCG-2018-0005]

Area Maritime Security Committee; Charleston, SC Committee Vacancies

AGENCY: Coast Guard, DHS.

ACTION: Solicitation for membership.

SUMMARY: This notice requests individuals interested in serving on the Area Maritime Security Committee (AMSC), Charleston, SC, submit their resume to the Federal Maritime Security Coordinator (FMSC), Charleston, SC. The Committee assists the FMSC, Charleston, SC, in developing, reviewing, and updating the Area Maritime Security Plan for their area of responsibility.

DATES: Requests for membership should reach the FMSC, Charleston, SC, by April 5, 2018.

ADDRESSES: Resumes should be submitted to the following address: Coast Guard Sector Charleston, Attention: Mr. Dennis Bradford, 1050 Register St., North Charleston, SC 29405.

FOR FURTHER INFORMATION CONTACT: For questions about submitting an application, or about the AMSC in general, contact, Mr. Dennis Bradford at dennis.f.bradford@uscg.mil

SUPPLEMENTARY INFORMATION:

Authority

Section 102 of the Maritime Transportation Security Act (MTSA) of 2002 (Pub. L. 107-295) added section 70112 to Title 46 of the U.S. Code, and authorized the Secretary of the Department in which the Coast Guard is operating to establish Area Maritime Security Advisory Committees for any port area of the United States. (See 33 U.S.C. 1226; 46 U.S.C. chapter 701; 50 U.S.C. 191, 192; 33 CFR 1.05-1, 6.01; Department of Homeland Security Delegation No. 0170.1). Under 46 U.S.C. 70112(g)(1)(B), the Federal Advisory Committee Act (FACA) does not apply to AMSCs.

The AMSCs shall assist the FMSC in the development, review, update, and exercising of the Area Maritime Security Plan for their area of responsibility. Such matters may include, but are not limited to: Identifying critical port infrastructure and operations; identifying risks (threats, vulnerabilities, and consequences); determining mitigation strategies and implementation methods; developing and describing the process to continually evaluate overall port security by considering consequences and vulnerabilities, how they may change over time, and what additional mitigation strategies can be applied; and providing advice to, and assisting the FMSC in developing and maintaining the Area Maritime Security Plan.

AMSC Membership

Members of the AMSC should have at least five years of expertise related to maritime or port security operations.

Applicants may be required to pass an appropriate security background check prior to appointment to the Committee. Applicants must register with and remain active as Coast Guard HOMEPORT users if appointed. Members' terms of office will be for five years; however, a member is eligible to serve additional terms of office. Members will not receive any salary or other compensation for their service on an AMSC. In accordance with 33 CFR 103.305, members may be selected from the Federal, Territorial, or Tribal governments; the State government and political subdivisions of the State; local public safety, crisis management, and emergency response agencies; law enforcement and security organizations; maritime industry, including labor; other port stakeholders having a special competence in maritime security; and port stakeholders affected by security practices and policies.

The Department of Homeland Security does not discriminate in selection of Committee members on the basis of race, color, religion, sex, national origin, political affiliation, sexual orientation, gender identity, marital status, disability and genetic information, age, membership in an employee organization, or any other non-merit factor. The Department of Homeland Security strives to achieve a widely diverse candidate pool for all of its recruitment actions.

Format of Applications

Those seeking membership should submit their resume to dennis.f.bradford@uscg.mil, highlighting experience in the maritime and security industries.

Dated: March 1, 2018.
J.W. Reed,
Captain, U.S. Coast Guard Federal Maritime Security Coordinator, Charleston, SC.

[FR Doc. 2018-04496 Filed 3-5-18; 8:45 am]

BILLING CODE 9110-04-P